DEPARTMENT OF TRANSPORTATION

Federal Aviation Administration

Notice of Opportunity for Public Comment on Surplus Property Release at Georgetown County Airport, Georgetown, South Carolina

AGENCY: Federal Aviation Administration (FAA), DOT.

ACTION: Notice.

SUMMARY: Under the provisions of Title 49, U.S.C. Section 47151(d), notice is being given that the Federal Aviation Administration (FAA) is considering a request from Georgetown County to waive the requirement that eleven parcels (approximately 18.32 acres) of surplus property, located at the Georgetown County Airport be used for aeronautical purposes.

DATES: Comments must be received on or before March 6, 2015.

ADDRESSES: Documents are available for review by prior appointment at the following location: Atlanta Airports District Office, Attn: Rob Rau, Community Planner, 1701 Columbia Ave., Suite 2-260, College Park, Georgia 30337-2747, Telephone: (404) 305-7004.

Comments on this notice may be mailed or delivered in triplicate to the FAA at the following address: Atlanta Airports District Office, Attn: Rob Rau, South Carolina Planner, 1701 Columbia Ave., Suite 2-260, College Park, Georgia 30337-2747.

In addition, one copy of any comments submitted to the FAA must be mailed or delivered to Mr. Ray C. Funnye, Director, Departmnet of Public Services, Georgetown County at the following address: 108 Screven Street, Georgetown, South Carolina 29440.

FOR FURTHER INFORMATION CONTACT: Rob Rau, Community Planner, Atlanta Airports District Office, 1701 Columbia Ave., Suite 2-260, College Park, Georgia 30337-2747, (404) 305-7004. The application may be reviewed in person at this same location.

SUPPLEMENTARY INFORMATION: The FAA is reviewing a request by Georgetown County to release eleven parcels (approximately 18.32 acres) of public property at the Georgetown County Airport. On June 4, 1947, the United States government through the War Assets Administration executed a Lease Termination Agreement which returned approximately 675 acres of land to Georgetown County with conditions. This property is to be used for public airport purposes on reasonable terms and without unjust discrimination and without grant of an exclusive right. These parcels are currently being used for places of worship, residential homes, educational and military facilities and industrial purposes.

Any person may inspect the request in person at the FAA office listed above under FOR FURTHER INFORMATION CONTACT.

In addition, any person may, upon request, inspect the request, notice and other documents germane to the request in person at the Georgetown County Airport.

Issued in Atlanta, Georgia, on January 29, 2015.
Larry F. Clark,
Manager, Atlanta Airports District Office, Southern Region.

[FR Doc. 2015-02166 Filed 2-3-15; 8:45 am]

BILLING CODE 4910-13-P